DEPARTMENT OF STATE

[Public Notice 5014]

Notice of Meeting of the Cultural Property Advisory Committee

In accordance with the provisions of the Convention on Cultural Property Implementation Act (19 U.S.C. 2601 et seq.) there will be a meeting of the Cultural Property Advisory Committee on Thursday, March 31, 2005, from approximately 8:30 a.m. to 5:30 p.m., and on Friday, April 1, 2005, from approximately 8:30 a.m. to 3 p.m., at the Department of State, Annex 44, Room 840, 301 4th St., SW., Washington, DC. During its meeting the Committee will continue its review of a request from the Government of the People's Republic of China to the Government of the United States of America. Concerned that its cultural heritage is in jeopardy from pillage, the Government of the People's Republic of China made this request under Article 9 of the 1970 UNESCO Convention. The request seeks U.S. import restrictions on Chinese archaeological material from the Paleolithic to the Qing Dynasty.

The Committee's responsibilities are carried out in accordance with provisions of the Convention on Cultural Property Implementation Act (19 U.S.C. 2601 et seq.). The text of the Act, a public summary of this request, and related information may be found at http://exchanges.state.gov/culprop. The meeting on March 31 and April 1 will be closed pursuant to 5 U.S.C. 552b(c)(9)(B) and 19 U.S.C. 2605(h).

The Committee also invites written comments that specifically address the determinations under Section 303(a)(1) of the Convention on Cultural Property Implementation Act, 19 U.S.C. 2602, pursuant to which the Committee must make findings. This citation for the determinations can be found at the Web site noted above. Written comments must be received no later than March 17, 2005, and may be faxed to (202) 260-4893, if 5 pages or less. Written comments greater than five pages must be sent in multiple copies (20 copies) via express mail to: Cultural Heritage Center, Department of State Annex 44, 301 4th St., SW., Rm. 334, Washington, DC 20547. Express mail is recommended for timely delivery.

Dated: March 4, 2005.
Patricia S. Harrison,
Assistant Secretary for Educational and Cultural Affairs, Department of State.

[FR Doc. 05-4830 Filed 3-10-05; 8:45 am]

BILLING CODE 4710-05-P